FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Bisac Logistics, Inc. (NVO & OFF), 7685 NW. 80th Terrace, Medley, FL 33166, Officers: Hugo E. Martinez, Secretary (QI), Olga P. Martinez, President, Application Type: New NVO & OFF License.

Carlos A. Lastra Customhouse Broker Inc. (OFF), 10450 SW 140 Road, Miami, FL 33176, Officers: Carlos A. Lastra, President (QI), Patricia M. Lastra, Vice President, Application Type: New OFF License.

CMK Freight Forwarders, LLC (NVO & OFF), 1834 Harden Blvd., Lakeland, FL 33803, Officers: Steven C. Pniewski, Manager (QI), Manuel R. Echevarria, President, Application Type: New NVO & OFF License,

Global Wide Logistics, Inc. (NVO), 1937 Davis Street, Unit G, San Leandro, CA 94577, Officers: Mohammed N. Karimi, President (QI), Abdul Faizyar, Treasurer, Application Type: New NVO License.

ILE Global LLC (OFF), 181 S. Franklin Avenue, Suite 601, Valley Stream, NY 11581, Officers: Victor Pezzelato, Vice President Sales (QI), Orit Horn, Managing Member, Application Type: QI Change.

Matson Logistics Warehousing, Inc. (NVO & OFF), 1855 Gateway Boulevard, Suite 250, Concord, CA 94520, Officers: Michael T. Johnson, Vice President (QI), Rusty K. Rolfe, President, Application Type: Transfer to Matson Logistics, Inc. and QI Change.

Miami Freight Forwarders, LLC (OFF), 11397 NW 7th Street, Suite 202, Miami, FL 33172, Officers: Finees M. Casado, Manging Member (QI), Wilmag E. Casado, Member, Application Type: New OFF License.

Ocean Cargo Express Lines, LLC (NVO & OFF), 11892 Speekway Blvd., Hardeeville, SC 29927, Officer: Tamara Meadows, Member (QI), Application Type: QI Change.

PAI Logis Inc (NVO & OFF), 510 Plaza Drive, Suite 1880, College Park, GA 30349, Officers: Jung Sik Kong, Secretary (QI), Tae Hyun Roh, President, Application Type: New NVO & OFF License.

Pim Global Logistics, Inc. (NVO & OFF), 1140 E. Sandhill Avenue, Carson, CA 90746, Officer: Kelvin Coze, President (QI), Application Type: New NVO License.

Sea Star Line Caribbean, LLC (NVO), 10550 Deerwood Park Blvd., Suite 509, Jacksonville, FL 32256, Officers: William F. Taylor, Vice President (QI), Peter Keller, President, Application Type: New NVO License.

Sky Express World Courier, Inc. (NVO), 1740 S. Los Angeles Street, Suite 201, Los Angeles, CA 90015, Officers: Gyou H. Ahn, Secretary (QI), Hyoungtae Kim, CEO, Application Type: New NVO License.

Unigroup Worldwide, Inc. dba Brewster Lines (NVO & OFF), One Premier Drive, Fenton, MO 63026, Officers: John M. Hiles, Assistant Secretary (QI), Patrick G. Baehler, President, Application Type: QI Change.

United Van Lines International, Inc. (OFF), One United Drive, Fenton, MO 63026, Officers: John Hiles, Assistant Secretary (QI), Patrick G. Baehler, President, Application Type: QI Change.

Zoom Ocean Freight LLC (NVO), 2240 NW 114th Avenue, Miami, FL 33172, Officers: Georgina Barona, Manager (QI), Zonia B. De Atencio, Manager, Application Type: New NVO License.

By the Commission.
Dated: December 7, 2012.
Rachel E. Dickon,
Assistant Secretary.

[FR Doc. 2012-30040 Filed 12-12-12; 8:45 am]

BILLING CODE 6730-01-P